DEPARTMENT OF HOMELAND SECURITY

Coast Guard

33 CFR Part 117

[Docket No. USCG-2013-0848]

RIN 1625-AA09

Drawbridge Operation Regulations; Gulf Intracoastal Waterway, Venice, FL

AGENCY: Coast Guard, DHS.

ACTION: Final rule.

SUMMARY: The Coast Guard is modifying the operating schedule that governs the Hatchett Creek (US-41) Twin Bridges, Gulf Intracoastal Waterway mile 56.9, Venice, FL. Changing the operational schedule of the Hatchett Creek (US-41) Twin Bridges will allow the 8 hour, Sarasota Iron Man Triathlon to occur annually without being interrupted. This event is anticipated to be scheduled annually on the second Sunday of November, from 9 a.m. to 5 p.m.

DATES: This rule is effective August 18, 2014.

ADDRESSES: Documents mentioned in this preamble are part of docket [USCG-2013-0848]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this rule, call or email Ms. Danielle Mauser, Seventh Coast Guard District, Bridge Branch, 305-415-6946, email Danielle.L.Mauser2@uscg.mil. If you have questions about viewing the docket, call Cheryl Collins, Program Manager, Docket Operations, telephone 202-366-9826.

SUPPLEMENTARY INFORMATION:

Table of Acronyms

CFR Code of Federal Regulations

DHS Department of Homeland Security

FR Federal Register

NPRM Notice of Proposed Rulemaking

§ Section Symbol

U.S.C. United States Code

A. Regulatory History and Information

On November 21, 2013, we published a notice of proposed rulemaking (NPRM) entitled, “Drawbridge Operation Regulations; Gulf Intracoastal Waterway, Venice, FL” in the Federal Register (78 FR 69803). No comments on the proposed rule were received. No public meeting was requested or held.

B. Basis and Purpose

The changes will have a minor impact on vessels transiting the Gulf Intracoastal Waterway in the vicinity of Venice, Florida, but will still meet the reasonable needs to navigation. This action will accommodate the Sarasota Iron Man Triathlon held annually on the second Sunday of November.

C. Discussion of Comments, Changes and the Final Rule

No comments were received. This rule will allow the Hatchett Creek Bridge to remain closed to navigation for eight hours for an annual event. This rule will revise paragraph (b) in 33 CFR 117.287 to include this eight hour closure for the second Sunday in November annually. The Hatchett Creek (US-41) Bridge provides a vertical clearance of 16 feet at mean high water in the closed position and a horizontal clearance of 90 feet. Vessels with a height of less than 16 feet may pass through the bridge at any time. The Gulf of Mexico is the only alternative route, and this route would be unacceptable for certain classes of vessels such as tugs and barges.

D. Regulatory Analyses

The rule was developed after considering numerous statutes and executive orders related to rulemaking. Below is a summary of the analysis based on the aforementioned statutes and executive orders.

1. Regulatory Planning and Review

This rule is not a significant regulatory action under section 3(f) of Executive Order 12866, Regulatory Planning and Review, as supplemented by Executive Order 13563, Improving Regulation and Regulatory Review. It does not require an assessment of potential costs and benefits under section 6(a)(3) of Order 12866 or under section 1 of Executive Order 13563. The Office of Management and Budget has not reviewed it under those Orders.

This rule is not a significant regulatory action because it will only have a minor impact on vessels transiting the Gulf Intracoastal Waterway in the vicinity of Venice, Florida and it will still meet the reasonable needs of navigation.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

This rule would affect the following entities, some of which might be small entities: The owners or operators of vessels needing the draw to open for safe transit under the bridge from 9 a.m. to 5 p.m. on the second Sunday of November each year.

This action will not have a significant economic impact on a substantial number of small entities for the following reasons. This rule will be in effect for eight hours annually. Vessels that can safely transit under the bridge may do so at any time. Before the effective period, the Coast Guard will issue maritime advisories widely available to users of the river.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that might disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, the use of voluntary consensus standards was not considered.

14. Environment

After analyzing this rule under Department of Homeland Security Management Directive 023-01 and Commandant Instruction M16475.lD, which guides the Coast Guard in complying with the National Environmental Policy Act of 1969 (NEPA) (42 U.S.C. 4321-4370f), it has been concluded that this action is among a category of actions, that do not individually or cumulatively have a significant effect on the human environment. This rule simply promulgates the operating regulations or procedures for drawbridges. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.287, revise paragraph (b) to read as follows:

§ 117.287 Gulf Intracoastal Waterway.

* * * * *

(b) The draw of the Hatchett Creek (US-41) bridge, mile 56.9 at Venice, shall open on signal, except that, from 7 a.m. to 4:20 p.m., Monday through Friday except Federal holidays, the draw need open only on the hour, 20 minutes after the hour, and 40 minutes after the hour and except between 4:25 p.m. and 5:25 p.m. when the draw need not open. On Saturdays, Sundays, and Federal holidays from 7:30 a.m. to 6 p.m. the draw need open only on the hour, quarter-hour, half-hour, and three quarter-hour. This bridge need not open to navigation on the second Sunday of November annually, from 9 a.m. to 5 p.m., to facilitate the Iron Man Triathlon event.

* * * * *

Dated: June 18, 2014.
J.H. Korn,
Admiral, U.S. Coast Guard, Commander, Seventh Coast Guard District.

[FR Doc. 2014-16844 Filed 7-16-14; 8:45 am]

BILLING CODE 9110-04-P